DEPARTMENT OF LABOR

Employment and Training Administration

[TA-W-72,740; TA-W-72,740A]

Bruss North America; Russell Springs, KY; Bruss North America; Orion, MI; Amended Revised Determination on Reconsideration

In accordance with Section 223 of the Trade Act of 1974, as amended (“Act”), 19 U.S.C. 2273, the Department of Labor issued a Revised Determination on Reconsideration on February 2, 2011, applicable to workers of Bruss North America, Russell Springs, Kentucky. The workers are engaged in the production of automobile parts and component parts. The notice was published in the Federal Register on February 10, 2011 (76 FR 7590).

At the request of the State agency, the Department reviewed the certification for workers of the subject firm.

New findings show that worker separations occurred during the relevant time period at the Orion, Michigan location of Bruss North America, Inc. The Orion, Michigan location served as the sales office for the production of automobile parts at the Russell Springs, Kentucky location of Bruss North America. The same factors that led to certification of the Russell Springs, Kentucky facility also led to worker separations at the Orion, Michigan location during the relevant time period. Based on these findings, the Department is amending this revised determination to include workers of the Orion, Michigan location of Bruss North America.

The amended notice applicable to TA-W-72,740 is hereby issued as follows:

All workers of Bruss North America, Russell Springs, Kentucky (TA-W-72,740) and Bruss North America, Orion, Michigan (TA-W-72,740A), who became totally or partially separated from employment on or after October 31, 2008, through February 2, 2013, and all workers in the group threatened with total or partial separation from employment on the date of certification through two years from the date of certification, are eligible to apply for adjustment assistance under Chapter 2 of Title II of the Trade Act of 1974, as amended.

Signed in Washington, DC, this 18th day of February 2011.
Michael W. Jaffe,
Certifying Officer, Office of Trade Adjustment Assistance.

[FR Doc. 2011-5933 Filed 3-14-11; 8:45 am]

BILLING CODE 4510-FN-P